DEPARTMENT OF ENERGY

Federal Energy Regulatory Commission

[Docket No. RP93-109-020]

Southern Star Central Gas Pipeline, Inc.; Notice of Filing of Refund Report

November 26, 2003.

Take notice that on November 20, 2003, Southern Star Central Gas Pipeline, Inc. (Southern Star) tendered for filing pursuant to Article III, Paragraph D of the Stipulation and Agreement dated January 31, 2001, in Docket No. RP93-109-017, its refund report of environmental proceeds received from third-party insurers.

Article III states that Southern Star will allocate its pass-through of third-party environmental proceeds, if any, to Southern Star's customers based on firm reservation revenues during the 12 ending September 30.

Southern Star states that it is filing its report of third-party insurance proceeds received during the twelve months ended September 30, 2003. Southern Star states that due to the fact that it received no environmental proceeds during this twelve-month period, there will be no refunds made this year.

Southern Star states that a copy of its filing was served on all jurisdictional customers and interested state commissions, as well as all parties on the Commission's official service list for this docket.

Any person desiring to protest said filing should file a protest with the Federal Energy Regulatory Commission, 888 First Street, NE., Washington, DC 20426, in accordance with section 385.211 of the Commission's Rules and Regulations. All such protests must be filed on or before the protest date as shown below. Protests will be considered by the Commission in determining the appropriate action to be taken, but will not serve to make protestants parties to the proceedings. This filing is available for review at the Commission in the Public Reference Room or may be viewed on the Commission's Web site at http://www.ferc.gov using the “eLibrary” link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the “e-Filing” link.

Protest Date: December 4, 2003.

Magalie R. Salas,
Secretary.

[FR Doc. E3-00438 Filed 12-2-03; 8:45 am]

BILLING CODE 6717-01-P